DEPARTMENT OF HEALTH AND HUMAN SERVICES

Administration for Children and Families

Proposed Information Collection Activity; Release of Unaccompanied Children From Office of Refugee Resettlement Custody (Office of Management and Budget #0970-0552)

AGENCY: Office of Refugee Resettlement, Administration for Children and Families, Department of Health and Human Services.

ACTION: Request for public comments.

SUMMARY: The Office of Refugee Resettlement (ORR), Administration for Children and Families (ACF), U.S. Department of Health and Human Services, is inviting public comments on revisions to an approved information collection. The request consists of several forms that allow the Unaccompanied Children (UC) Program to process release of unaccompanied children from ORR custody and provide services after release.

DATES: Comments due within 60 days of publication. In compliance with the requirements of section 3506(c)(2)(A) of the Paperwork Reduction Act (PRA) of 1995, ACF is soliciting public comment on the specific aspects of the information collection described above.

ADDRESSES: Copies of the proposed collection of information can be obtained and comments may be forwarded by emailing infocollection@acf.hhs.gov. Alternatively, copies can also be obtained by writing to ACF, Office of Planning, Research, and Evaluation (OPRE), 330 C Street SW, Washington, DC 20201, Attn: ACF Reports Clearance Officer. All requests, emailed or written, should be identified by the title of the information collection.

SUPPLEMENTARY INFORMATION:

Description: ORR is proposing revisions to four forms (Forms R-1, R-2, R-4, and R-6), the addition of one new form (Form R-9), removal of one form (Form R-3), and continued use of the current versions of three forms (Forms R-2, R-4, and R-6). See below for a detailed description of the proposed revisions for each instrument.

Verification of Release (Form R-1)

There are two currently approved versions of this form under this information collection—one for UC Portal and one for UC Path. ORR proposes discontinuing the UC Portal version, incorporating the UC Path version into the UC Portal system, and making the below-listed revisions.

ORR also updated the burden estimates for this form to account for an increase in the number care provider facilities and in the number of children placed in ORR care. The annual number of respondents increased from 216 to 300 and the annual number of responses per respondent increased from 253 to 428.

Proposed Revisions

• Child's Information

○ Retitle section from Minor's Information to Child's Information.

○ Remove the term “minor” from the Name, Date of Birth, and A# fields.

○ Remove the Height, Weight, and Hair Color fields. ORR determined that these fields are not a good fit for this form given that height and weight will change quickly as the child grows and hair color is often altered.

○ Add fields for Preferred Language and Country of Birth. These fields will be auto-populated.

• Sponsor Information

○ Rephrase Name of Sponsor to Name.

○ Rephrase Telephone # to Primary Phone #.

○ Remove Alias (if any) field.

• Acknowledgement of the Sponsor Care Agreement

○ Rephrase Name of ORR Care Provider to ORR Care Provider Name.

○ Rephrase Date to Discharge Date.

Discharge Notification (Form R-2)

There are two currently approved versions of this form under this information collection—one for UC Portal and one for UC Path. ORR proposes the below-listed revisions to the current UC Portal version and plans to discontinue the UC Path version.

In addition, ORR is requesting continued use of the current UC Portal version of this instrument to support a phased rollout of improvements to the UC Portal system.

ORR also updated the burden estimates for this form to reflect the revisions and to account for an increase in the number of care provider facilities and in the number of children placed in ORR care. The annual number of respondents increased from 216 to 300; the annual number of responses per respondent increased from 290 to 487; and the average burden hours per response increased from 0.17 to 0.25.

Proposed Revisions

• UC Basic Information

○ Remove Age field and add Portal ID field (auto-populated system-generated number).

• Discharge Basic Information

○ Retitle section from Discharge Notification to Discharge Basic Information.

○ Update the dropdown options for the Discharge Type field to be inclusive of all types of discharge scenarios and add an If Other, specify text box field.

○ Add the following fields from the UC Path version:

Status

Scheduled Date of Discharge (rephrase from Release Scheduled Date/Time)

Discharge Delay (also expand dropdown options and add an If Other, specify text box field)

UC Parent Name

Parent/Legal Guardian Separation

MPP Case

Next Immigration Hearing Date

○ Add the following new fields:

UC Parent Discharge Type

UC Parent A#

Did the medical coordinator certify that the child is medically fit to travel?

○ Move the field Legal Status of Child (rephrase from Legal Status of Minor) under this section and add an If Other, specify text box field.

• Discharge Details

○ Retitle section from ORR Decision from Latest Release Request to Discharge Details.

○ Employ progressive disclosure for this section so that only fields relevant to the selected Discharge Type (and where applicable UC Parent Discharge Type) are displayed.

○ Rephase field label to Receiving Program Name (currently Program Minor was Transferred to).

○ Remove the following fields:

DHS Family Shelter

Local Law Enforcement

○ Add the following fields from the UC Path version:

Government Agency Name (rephrase from Name of Government Agency)

Government Agency Type (rephrase from Government Agency and update dropdown options to add ICE ERO and remove State/Local Facility)

Date Granted Voluntary Departure

Date Travel Document Requested

Date Travel Document Issued

Referral to Services in Country of Origin (update dropdown options to rephrase KIND (Kids in Need of Defense) to KIND CMRRP and add Other Services)

Completed Referral to Services in Country of Origin

DHS Age Out/Age Redetermination Plan (rephrase from DHS Age Out Plan)

○ Add the following new fields:

Type of Post-18 Discharge Plan

Discharged into Custody of

UC Parent Discharged into Custody of

• Transportation Details

○ Transfer this section and all fields contained within from the UC Path version without further revisions.

ORR Release Notification—ORR Notification to Immigration and Customs Enforcement (ICE) Chief Counsel—Release of Unaccompanied Child to Sponsor and Request To Change Address (Form R-3)

ORR proposes removing this instrument from the information collection. No information is requested specifically for this auto-populated document, instead this a document that is auto-populated with information ORR collects in other Office of Management and Budget (OMB)-approved forms. The use of information consolidated on this notification document is consistent with the purpose for which ORR originally collects the information in its other forms and with ORR's system of records notice (81 FR 46682). This form simply compiles and presents approved information collections in a different format and is therefore not subject to the PRA.

The fields in this form are auto-populated from the following instruments:

• Discharge Notification (Form R-2, approved under this information collection)

• Release Request (Form R-4, approved under this information collection)

• Sponsor Assessment (Form S-5) (approved under OMB# 0970-0553)

• Care provider program user profile (not subject to PRA per OMB's April 7, 2010 memorandum Social Media, Web-Based Interactive Technologies, and the Paperwork Reduction Act)

Release Request (Form R-4)

There are two currently approved versions of this form under this information collection—one for UC Portal and one for UC Path. ORR proposes the below-listed revisions to the current UC Portal version and plans to discontinue the UC Path version.

In addition, ORR is requesting continued use of the current UC Portal version of this instrument to support a phased rollout of improvements to the UC Portal system.

ORR also updated the burden estimates for this form to reflect the revisions and to account for an increase in the number of care provider facilities and in the number of children placed in ORR care. The annual number of respondents increased from 216 to 300 for care providers; the annual number of responses per respondent increased from 254 to 430 for care providers and 321 to 756 for case coordinators; and the average burden hours per response increased from 0.42 to 0.58 for care providers and 0.33 to 0.50 for case coordinators.

Proposed Revisions

• Case Details—Retitle section from UC Basic Information to Case Details.

• Release Request Details

○ Replace the current Requester Information section with this section.

○ Auto-populate all fields in this section based on information captured in other sections of the form, information collected in the Sponsor Assessment (Form S-5, approved under OMB# 0970-0553), and system user information.

○ Add the following new fields: Case Category, Relationship, Process, and Release Status.

○ Replace the fields Requester Name and Requester Title with the following auto-populated fields: Case Manager Name, Case Coordinator Name, Local Federal Field Staff Name, and Box Federal Field Staff Name (if Applicable).

• Sponsor Information

○ Add the following new fields that will auto-populate based on information entered in the Sponsor Assessment (Form S-5, approved under OMB# 0970-0553): Evidence gathered to support sponsor/child relationship, Birth Certificate Trail, Concurrent and Prior Sponsorships, Sponsor's Previous Address(es), Sponsor's Current Address, and Flags Associated with Sponsors.

○ Add the following new fields that will be completed by the user: Other (in response to What evidence has been gathered to support sponsor/child relationship), Does sponsor birth certificate match official sponsor ID?, If no, please note discrepancies between sponsor birth certificate and official sponsor ID, Was birth certificate verified by the consulate, If unable to conclusively prove relationship, please explain, and Concurrent and Prior Sponsorships Evaluation.

○ Remove the following fields: Legal Status, If other Non-Immigrant Visa, Specify, If Other Immigrant Visa, Specify, SSN, Provide Details on Relationship Including Official Documentation, Sponsor Household Occupants, and Affidavits of Support.

• Family Reunification Packet & Supporting Documents

○ Add this new section which will reference all supporting documentation relevant for release recommendations to minimize the amount of cross-referencing system users typically do to complete this form.

○ Unification Documentation Subsection

Add the following new fields that will auto-populate based on information enter in the Sponsor Assessment (Form S-5, approved under OMB# 0970-0553): Sponsor, Sponsor Identification, Was the sponsor address validated through SmartyStreets?, Choose to link google maps and google earth screenshots, What documentation was provided as proof of address, HHM Name, HHM Identification, ID Expiration Date, Alternate Caregiver (ACG) Name, Alternate Caregiver Identification, and ID Expiration Date.

Add the following new fields that will be completed by the user: Date FRP Received by Case Manager, Describe the sponsor's ability to provide housing, food, and education to the child, On what date was the Letter of Designation received, Not Collected (checkbox), and On what date was the Legal Orientation Program for Custodians Packet sent to the Sponsor?

○ Child-Level Events Subsection

Hyperlink to information collected in the Child-Level Event (Form A-9, approved under OMB# 0970-0547), when applicable. This section is proposed purely to assist users in having all case information in one place. Child-Level Events in and of themselves are not the sole basis of release decisions but can inform whether a Home Study recommendation is made, what level of post-release services (PRS) is recommended for release, or what type of program would be best suited to a child released to program rather than a sponsor.

○ Legal Representation Subsection

Add the following new fields: Does the child have an attorney of record? and Date Attorney Appointed, Is this a Migrant Protection Protocol case?, Is there a removal order for the unaccompanied child?, and Is this a Parental/Legal Guardian separation case?

○ Child Advocate Subsection

Add the following new fields: Does the child have a Child Advocate appointed?, Date Child Advocate Appointed.

Add a hyperlink to the Child Advocate Best Interest Determination (which is uploaded into UC Portal) upon completion, is proposed to be added into this form for the user's ease of reference.

○ OTIP Eligibility Subsection

This subsection requests information related to referrals made to the Office of Trafficking in Persons, where applicable.

Add the following new fields: Is the unaccompanied child a material witness?, Outcome of OTIP Referral, OTIP Status, Date of OTIP Referral, Date OTIP Eligibility Begins, and Date OTIP Eligibility Expires.

Add a hyperlink to the OTIP Eligibility Letter (if applicable) which is uploaded into UC Portal, upon completion, will be added into this form for the user's ease of reference.

○ Release to Program (URM, State, Local Social Service Agency, Other) Subsection

Add the following new fields: URM Program Requirement Eligibility, Date the URM Eligibility was Obtained, Program Accepts Guardianship, Program Agreed to Condition of Release, How/Why Program was identified, Date of Referral to the Program, Date of Acceptance, Program Comment, and Program License Type, Program Type, Facility Name, Program Address, and Other.

Add a hyperlink to the Discharge Plan (Form R-9), which is a new instrument proposed under this request.

• Criminal Investigations

○ Auto-populate information on background check results from the Sponsor Assessment (Form S-5, approved under OMB# 0970-0553).

○ Employ progressive disclosure to limit or expand each subsection based on the facts of the case.

○ Criminal Investigations: Sponsor Subsection

Add the following new fields that will be completed by the user: Has the sponsor self-disclosed any criminal history? Please Explain., Is there evidence of rehabilitation? Please Explain., FFS requested the following additional information to adjudicate CA/N Results:, FFS adjudicated referred CA/N Check Results, FFS Requested the following information to adjudicate Fingerprints Results:, FFS adjudicated Fingerprints Results, and Did the FFS instruct that it is safe to move forward with the sponsor given the Fingerprint and CA/N Results? Please Explain:.

○ Criminal Investigations: Household Member (HHM) Subsection

Add the following new fields that will be completed by the user: Has the household member self-disclosed any criminal history? Please Explain., Is there evidence of rehabilitation? Please Explain., FFS requested the following additional information to adjudicate CA/N Results:, FFS adjudicated referred CA/N Check Results, FFS Requested the following information to adjudicate Fingerprints Results:, FFS adjudicated Fingerprints Results, and Did the FFS instruct that it is safe to move forward with the sponsor given the HHM's Fingerprint and CA/N Results? Please Explain:

○ Criminal Investigations: Alternate Caregiver (ACG) Subsection

Add the following new fields that will be completed by the user: Has the alternate caregiver self-disclosed any criminal history? Please Explain., Is there evidence of rehabilitation? Please Explain., FFS requested the following additional information to adjudicate CA/N Results:, FFS adjudicated referred CA/N Check Results, FFS Requested the following information to adjudicate Fingerprints Results:, FFS adjudicated Fingerprints Results, and Did the FFS instruct that it is safe to move forward with the sponsor given the alternate caregiver's Fingerprint and CA/N Results? Please Explain:

• Home Study Recommendation Section

○ Move all fields related to home study recommendations into this new section. Currently, the Case Manager Recommendation, Case Coordinator Recommendation, and ORR Decision sections contain fields related to home study recommendations, release recommendations, and cancellation reasons. Moving fields related to home study recommendations here will distinguish the home study decision from the release decision and cancellation reasons. This section will contain subsections for each party involved in the home study recommendation and decision process—Case Manager Recommendation, Case Coordinator Recommendation, and ORR Decision.

○ Add a new dropdown option, Do Not Recommend Home Study, to the case manager and case coordination recommendation fields and the decision field (current dropdown options are Home Study—TVPRA, Home Study—Discretionary, and Home Study—ORR Mandated).

○ Add a new field, Explain your rationale for recommending or not recommending a Home Study, to all three subsections.

○ Add the following new fields that will appear if a home study is approved: Date Home Study Referral Sent, Date Home Study Referral Accepted, and Date Home Study Completed. These fields will auto-populated based on UC Portal system data.

○ Add a hyperlink to the Home Study Report will appear after it is uploaded into UC Portal, as well as a new field: Please summarize the results of the home study including any recommendations made by the Home Study provider. If there are any concerns and how they were mitigated.

• Release Recommendation

○ Bundle the Case Manager Recommendation, Case Coordinator Recommendation, and ORR Decision sections together as subsections under this new section. Fields related to home study recommendations will be moved into the Home Study Recommendation section (as discussed above) and fields related to cancellation reasons will be moved into the Release Cancellation section (as discussed below).

○ Add three checkboxes to assist in routing for this form: Submitted on Weekend or Holiday?, ICF or Casa Padre?, and Certified Medically Fit for Travel (a field that can only be completed by ORR federal staff).

○ Update the dropdown options for the following fields to reflect that all children released from ORR care will receive PRS beginning January 1, 2024: Case Manager Release Recommendation, Case Coordinator Release Recommendation, and ORR Release Decision.

○ Add the following fields to direct case routing: Case Manager Routing, Case Coordinator Routing, ORR Routing (if applicable).

○ Add the following new fields to each subsection: Describe case factors that contribute positively to your release recommendation, Describe case factors that contribute negatively to your release recommendation, and List all documents used as evidence to support your recommendation to deny release (will only appear if the recommendation is to deny release).

○ Case Manager Recommendation Subsection

Add checkboxes for the types of documents the user reviewed to inform their recommendation as well as an Other text box to describe any documents reviewed that are not included in the checklist.

○ Case Coordinator Recommendation Subsection

Add a new field, Case Coordinator Pending Information as well as an Other text box to capture addition information is the user selects Other.

○ ORR Decision Subsection

Add the following new fields: ORR Decisionmaker Role, ORR Remand Reason (along with a corresponding Other text field), and ORR HOLD Reason.

Add a hyperlink to the final Notification of Denial Letter signed by the ORR Director that will appear if Deny Release is selected for a Cat 1, Cat 2A, or Cat 2B sponsor.

• Release Cancellation

○ Move fields related to release cancellation into this new section to distinguish cancellations from home study and release recommendations. This section will contain subsections for each party involved in cancellations—Case Manager Recommendation, Case Coordinator Recommendation, and ORR Decision.

○ Add the following new fields to each subsection: Cancellation Reason and Describe circumstances of release cancellation.

○ Add the following fields that will prompt the user to select a more specific reason for cancellation: Specific Sponsor Withdrawal Reason, Specific Reason for Child Discharge (Non-unification or Program), and Specific Administrative Closure Reason.

Virtual Check-In Questionnaire (Form R-6) (Formerly Titled Safety and Well-Being Call)

There are two currently approved versions of this form under this information collection—one in Excel and one for UC Path. ORR proposes the below-listed revisions to the current UC Path version and plans to incorporate the revised version into the UC Portal system.

In addition, ORR is requesting continued use of the current Excel version of this instrument to support a phased rollout of improvements to the UC Portal system.

ORR updated the burden estimates for this form to reflect form revisions, to account for an increase in the number of care provider facilities and in the number of children placed in ORR care, and to improve burden accuracy. The burden estimate was split into three separate line items for each respondent. The annual number of respondents changed from 216 care providers to 40 PRS providers, 128,487 sponsors, and 128,487 children; the annual number of responses per respondent increased from 253 to 19,273 for PRS providers, 3 for sponsors, and 3 for children; and the average burden hours per response increased from 0.42 to 0.58 for PRS providers, 0.17 to 0.25 for sponsors, and 0.17 to 0.25 for children.

ORR plans to shift responsibility for conducting safety and well-being calls from care provider facilities to PRS providers. Moving forward these calls will be called virtual check-ins. All children released to a sponsor and their sponsors will continue to receive calls, however, the frequency of the calls will increase from one to three calls—conducted at seven business days, 14 business days, and 30 business days after the child's release from ORR custody.

ORR proposes the following revisions to the UC Path version of Form R-6 to support this change in process:

• Change the title to “Virtual Check-In Questionnaire.”

• Pre-Call Information—This section will replace the UAC Basic Information and Case Information sections. The new section retains the child and sponsor information and adds fields to capture phone numbers for contacts in the care plan and in home country. All information in this section will be auto-populated.

• Questions for the Sponsor—This section will replace the Sponsor Address Confirmation and Sponsor Questions sections. The new section will include subsections for Location & Contact Information, Child's School, Child's Medical & Mental Health, Legal & Child's Immigration, Safety & Well-Being, and Child's Work. This section adds 13 new questions. The section also retains, and in some cases adds additional follow-up questions for, the questions confirming the address, whether the child still lives with the sponsor, whether the child is registered for school, whether the child is having any behavioral or health issues, whether the sponsor has attended the Legal Orientation Program for Custodians of Unaccompanied Children (LOPC) presentation, whether the sponsor is aware of, and notified the child of, the child's next immigration court date, whether the child has attended their scheduled court hearing, whether the sponsor still has the child's Verification of Release form, and whether the sponsor has been asked to pay for the release of the child.

• Questions for the Child—This section will replace the UAC Address Confirmation and UAC Questions sections. The new section will include subsections for Location, School, Medical & Mental Health, Legal & Immigration, Safety & Well-Being (Post-Release and In-Care), and Work. The new section adds 31 new questions. The section also retains, and in some cases adds additional follow-up questions for, the questions confirming the address, whether the child still lives with the sponsor, whether the child is attending school, whether the child feels safe, whether the child has been adequately provided for, whether anyone has been asked to pay for the release of the child, whether the child is being forced to work or pay money, and whether the child is aware of their next immigration court date.

• Post-Call Assessment and Outcomes—This section will replace the following sections: Sponsor Interview, UAC Interview, Case Manager Observation and Action Follow-Up, UAC May be in Immediate Danger, UAC May be Unsafe, UAC May Have Been Sexually Abused or Harassed While in ORR Care, Additional Support Services or LOPC Appointment, and Case Manager Certification. The new section adds 6 new questions. The section also retains, and in some cases builds on, questions on whether the phone was disconnected, sponsor participation, whether the child appears to be in immediate danger, whether the child or sponsor should be assessed for additional PRS, post-call actions taken, and reasons for elevation (if applicable).

Discharge Plan (Form R-9)

ORR care providers are required to conduct discharge planning for children who are not likely to be released to a sponsor, may obtain a form of lawful immigration relief, are projected to have a prolonged stay in ORR care, and/or will soon turn age 18 and age out of ORR care. Discharge planning is a participatory process that takes into consideration the wishes and goals of the child and includes consultation with the child's legal services provider, attorney of record, child advocate, and other stakeholders (e.g., parents, legal guardian in home country) as applicable. Case managers engage in concurrent planning, whenever possible, to ensure there are multiple options included in the child's discharge plan.

ORR developed this instrument to improve and standardize the process for discharge planning across its national network of care providers. The new instrument will collect information on the following topics:

• Child's Basic Information

• Placement Information After Release

• UC Program Family Group

• Case Management Needs

• Family Unification Plan

• Education and Career Plan

• Financial Plan

• Residential Plan

• Community Resources Plan

• Legal Services Plan

• Voluntary Departure Plan

• Release to DHS ICE Field Office Juvenile Coordinator Upon Age Out

• Transportation Plan

• Health Discharge Safety Plan

• Behavioral Observations Summary

• Life Skills Summary

The Legal Services Plan section of this instrument will replace Post Legal Status Plan (Form L-8), which is currently approved under OMB# 0970-0565. ORR plans to submit a nonsubstantive change request to discontinue Form L-8 soon.

Respondents: ORR grantee and contractor staff; and released children and sponsors.

Annual Burden Estimates
Information collection title | Annual number of respondents | Annual number of responses per respondent | Average burden hours per response | Annual total burden hours
Verification of Release (Form R-1) | 300 | 428 | 0.17 | 21,828
Discharge Notification (Form R-2) | 300 | 487 | 0.25 | 36,525
ORR Release Notification—ORR Notification to ICE Chief Counsel Release of UC to Sponsor and Request to Change Address (Form R-3) | 300 | 440 | 0.08 | 10,560
Release Request (Form R-4)—Care Provider | 300 | 430 | 0.58 | 74,820
Release Request (Form R-4)—Case Coordinator | 170 | 756 | 0.50 | 64,260
Virtual Check-In Questionnaire (R-6)—Sponsor | 128,487 | 3 | 0.25 | 96,365
Virtual Check-In Questionnaire (R-6)—Child | 128,487 | 3 | 0.25 | 96,365
Virtual Check-In Questionnaire (R-6)—PRS Provider | 40 | 19,273 | 0.58 | 447,134
Discharge Plan (Form R-9) | 300 | 11 | 2.00 | 6,600

Estimated Annual Burden Hours Total: 854,457.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232; Flores v. Reno Settlement Agreement, No. CV85-4544-RJK (C.D. Cal. 1996).

Mary B. Jones,
ACF/OPRE Certifying Officer.

[FR Doc. 2023-16795 Filed 8-4-23; 8:45 am]

BILLING CODE 4184-45-P